NATIONAL AERONAUTICS AND SPACE ADMINISTRATION

[Notice: (04-146)]

Public Meeting of United States Study Group 7

AGENCY: National Aeronautics and Space Administration.

ACTION: Notice of meeting.

SUMMARY: There will be a meeting of United States Study Group 7 to discuss the status of the United States Study Group 7 Working Parties and preparations for the Fall 2004 meeting of International Telecommunications Union Study Group 7.

DATES: The meeting will be held Monday, February 28, 2005, at 10 a.m.

ADDRESSES: The meeting will be held at the National Science Foundation, room 320, located at 4201 Wilson Blvd, Arlington, VA.

FOR FURTHER INFORMATION CONTACT: Shayla Taylor, 540-659-7222.

Dated: December 13, 2004.
David P. Struba,
Chairman, U.S. Study Group 7, NASA Director Spectrum Policy and Planning, Office of Space Operations.

[FR Doc. 04-27559 Filed 12-15-04; 8:45 am]

BILLING CODE 7510-13-P